DEPARTMENT OF AGRICULTURE

Forest Service

Glenn/Colusa County Resource Advisory Committee

AGENCY: Forest Service, USDA.

ACTION: Notice of meeting.

SUMMARY: The Glenn/Colusa County Resource Advisory Committee (RAC) will meet in Willows, California. Agenda items covered include: (1) Introductions, (2) Approve Minutes, (3) RAC Admin Updates, (4) Public Comment, (5) FY08 and FY09 New Project Presentations and Voting if Time Allows, (6) FY10 New Project Presentations and Voting if Time Allows, (7) General Discussion, (8) Meeting Schedule, (9) Adjourn.

DATES: The meeting will be held on April 26, 2010, from 1:30 p.m. and end at approximately 4:30 p.m.

ADDRESSES: The meeting will be held at the Mendocino National Forest Supervisor's Office, 825 N. Humboldt Ave., Willows, CA 95988. Individuals who wish to speak or propose agenda items send their names and proposals to Eduardo Olmedo, DFO, 825 N. Humboldt Ave., Willows, CA 95988.

FOR FURTHER INFORMATION CONTACT: Laurie Trombley, Glenn/Colusa RAC Coordinator, USDA, Mendocino National Forest, Grindstone Ranger District, P.O. Box 160, Stonyford, CA 95979 (530) 963-3128 e-mail: ltrombley@fs.fed.us. Eduardo Olmedo, District Ranger, USDA, Mendocino National Forest, Grindstone Ranger District, 825 N. Humboldt St., Willows, CA 95988 (530) 934-3316 e-mail: eolmedo@fs.fed.us.

SUPPLEMENTARY INFORMATION: The meeting will be open to the public. Committee discussion is limited to Forest Service staff and Committee members. However, persons who wish to bring matters to the attention of the Committee will file written statements with the Committee staff before or after the meeting. Public input sessions are provided and individuals who made written requests by April 12, 2010 have the opportunity to address the committee at those sessions.

Dated: February 9, 2010.
Eduardo Olmedo,
Designated Federal Official.

[FR Doc. 2010-3649 Filed 2-25-10; 8:45 am]

BILLING CODE 3410-11-M